NATIONAL ARCHIVES AND RECORDS ADMINISTRATION

36 CFR Parts 1220, 1223, 1225, 1226, 1227, 1228, 1229, 1230, 1231, 1232, 1233, 1234, 1235, 1237, 1238, and 1239

[FDMS No. NARA-18-0002; NARA-2018-025]

RIN 3095-AB95

Records Management

AGENCY: National Archives and Records Administration (NARA).

ACTION: Direct final rule.

SUMMARY: NARA is revising these regulations to make administrative changes, such as updating office names and organizational codes, updating URLs, and updating links to NARA's records management web pages, to reflect organizational and contact changes, and revising the incorporation by reference language to make it consistent with newer regulations and to reflect contact changes.

DATES: This rule is effective on April 30, 2018 without further notice, unless we receive adverse written comment that warrants revision by April 19, 2018. If we receive such comments, we will publish a timely withdrawal of the direct final rule in the Federal Register.

ADDRESSES: You may submit comments, identified by RIN 3095-AB95, by email at regulation_comments@nara.gov, or by mail to the External Policy Program Manager; Strategy Division (MP), Suite 4100; National Archives and Records Administration; 8601 Adelphi Road; College Park, MD 20740-6001.

FOR FURTHER INFORMATION CONTACT: Kimberly Keravuori, by email at regulation_comments@nara.gov, or by telephone at 301-837-3151.

SUPPLEMENTARY INFORMATION:

Regulatory Review Information

This rule is not a significant regulatory action for the purposes of E.O. 12866 and a significance determination was requested from the Office of Management and Budget (OMB). It is also not a major rule as defined in 5 U.S.C. Chapter 8, Congressional Review of Agency Rulemaking. As a result, this rule is also not subject to deregulatory requirements contained in E.O. 13771. As required by the Regulatory Flexibility Act, we certify that this rule will not have a significant impact on a substantial number of small entities; it simply updates contact, office, and agency online site information to reflect organizational changes. This rule also does not have any Federalism implications.

This rule is effective upon publication for good cause as permitted by the Administrative Procedure Act (5 U.S.C. 553(d)(3)). NARA believes that a public comment period is unnecessary as this rule merely makes minor administrative updates to reflect NARA organizational changes.

List of Subjects

36 CFR Parts 1220, 1225, 1226, 1227, 1228, 1229, 1230, 1231, 1232, 1233, 1238, and 1239

Archives and records, Records management.

36 CFR Parts 1223, 1234, 1235, and 1237

Archives and records, Incorporation by reference, Records management.

For the reasons stated in the preamble, NARA amends 36 CFR parts 1220, 1223, 1225, 1226, 1227, 1228, 1229, 1230, 1231, 1232, 1233, 1234, 1235, 1237, 1238, and 1239 as follows:

PART 1220—FEDERAL RECORDS; GENERAL

1. The authority citation for part 1220 continues to read as follows:

Authority: 44 U.S.C. Chapters 21, 29, 31, and 33.

2. Revise § 1220.20 to read as follows:

§ 1220.20 What NARA acronyms are used throughout this subchapter?

As used in this subchapter—

AC means Office of the Chief Records Officer, which includes NARA records management staff nationwide.

ACRA means the Records Appraisal and Agency Assistance Division.

AFO means the Office of Operations (regional records services).

B-AD means the Storage Coordination and Logistics Office.

NARA means the National Archives and Records Administration.

RDE means the Electronic Records Division.

RDS means the Special Media Records Division.

RX means Preservation Programs.

WNRC means the Washington National Records Center.

§ 1220.34 [Amended]

3. Amend § 1220.34 by removing the abbreviation “(NWM)” and adding in its place “(AC)” in three places in paragraphs (b) and (c).

PART 1223—MANAGING VITAL RECORDS

4. Revise the authority citation for part 1223 to read as follows:

Authority: 44 U.S.C. 3101; E.O. 12656, 53 FR 47491, 3 CFR, 1988 Comp., p. 585; E.O. 13231, 66 FR 53063, 3 CFR, 2001 Comp., p. 805.

5. Revise § 1223.4 to read as follows:

§ 1223.4 What publications are incorporated by reference in this part?

(a) NARA incorporates certain material by reference into this part with the approval of the Director of the Federal Register under 5 U.S.C. 552(a) and 1 CFR part 51. To enforce any edition other than that specified in this section, NARA must publish a document in the Federal Register and the material must be available to the public. You may inspect all approved material incorporated by reference at NARA's textual research room, located at National Archives and Records Administration; 8601 Adelphi Road; Room 2000; College Park, MD 20740-6001. To arrange to inspect this approved material at NARA, contact NARA's Regulation Comments Desk (Strategy and Performance Division (MP)) by email at regulation_comments@nara.gov or by telephone at 301.837.3151. All approved material is also available from the sources listed below. You may also inspect approved material at the Office of the Federal Register (OFR). For information on the availability of this material at the OFR, call 202.741.6000 or go to http://www.archives.gov/federal_register/cfr/ibr-locations.html.

(b) Federal Emergency Management Agency (FEMA), Department of Homeland Security (DHS); P.O. Box 2012; 8231 Stayton Drive; Jessup, MD 20794-2012, phone number (800) 480-2520; https://www.fema.gov/guidance-directives.

(1) Federal Continuity Directive 1 (“FCD 1”): Federal Executive Branch National Continuity Program and Requirements, February 2008, IBR approved for § 1223.14.

(2) [Reserved]

PART 1225—SCHEDULING RECORDS

6. The authority citation for part 1225 continues to read as follows:

Authority: 44 U.S.C. 2111, 2904, 2905, 3102, and Chapter 33.

§ 1225.24 [Amended]

7. Amend § 1225.24(a)(1) introductory text by removing the words “the National Archives and Records Administration, Modern Records Programs (NWM), 8601 Adelphi Road, College Park, MD 20740-6001, phone number 301-837-1738” and adding in their place the words “NARA, by mail at National Archives and Records Administration; Office of the Chief Records Officer (AC); 8601 Adelphi Road; College Park, MD 20740-6001, or by email at RM.Communications@nara.gov.”

§ 1225.26 [Amended]

8. Amend § 1225.26(d) by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

PART 1226—IMPLEMENTING DISPOSITION

9. The authority citation for part 1226 continues to read as follows:

Authority: 44 U.S.C. 2111, 2904, 3102, and 3301.

§ 1226.14 [Amended]

10. Amend § 1226.14(e) by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

§ 1226.20 [Amended]

11. Amend § 1226.20(b) introductory text by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

§ 1226.26 [Amended]

12. Amend § 1226.26(b) introductory text by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

PART 1227—GENERAL RECORDS SCHEDULES

13. The authority citation for part 1227 continues to read as follows:

Authority: 44 U.S.C. 3303a(d).

14. Revise § 1227.14(a) to read as follows:

§ 1227.14 How do I obtain copies of the GRS?

(a) The GRS and instructions for their use are available online at https://www.archives.gov.records-mgmt/grs. They are also available upon request by email at GRS_Team@nara.gov or by mail at National Archives and Records Administration; Office of the Chief Records Officer (AC); Attention: GRS Team, Room 2100; 8601 Adelphi Road, College Park, MD 20740-6001.

* * * * *

PART 1228—LOAN OF PERMANENT AND UNSCHEDULED RECORDS

15. The authority citation for part 1228 continues to read as follows:

Authority: 44 U.S.C. 2904.

§ 1228.12 [Amended]

16. Amend § 1228.12(c) by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

PART 1229—EMERGENCY AUTHORIZATION TO DESTROY RECORDS

17. The authority citation for part 1229 continues to read as follows:

Authority: 44 U.S.C. 3310 and 3311.

18. Revise § 1229.10(a) to read as follows:

§ 1229.10 What steps must be taken when records are a continuing menace to health or life, or to property?

* * * * *

(a) When an agency identifies records that pose a continuing menace to human health or life, or to property, the records officer or other designee must immediately notify NARA, by mail at National Archives and Records Administration; Office of the Chief Records Officer (AC); 8601 Adelphi Road; College Park, MD 20740-6001, or by email at RM.Communication@nara.gov. The notice must describe the records, their location and quantity, and the nature of the menace.

* * * * *

§ 1229.12 [Amended]

19. Amend § 1229.12(b) by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

PART 1230—UNLAWFUL OR ACCIDENTAL REMOVAL, DEFACING, ALTERATION, OR DESTRUCTION OF RECORDS

20. The authority citation for part 1230 continues to read as follows:

Authority: 44 U.S.C. 3105 and 3106.

§ 1230.14 [Amended]

21. Amend § 1230.14 introductory text by removing the words “the National Archives and Records Administration, Modern Records Programs (NWM), 8601 Adelphi Road, College Park, MD 20740-6001, phone number 301-837-1738” and adding in their place the words “NARA, by mail at National Archives and Records Administration; Office of the Chief Records Officer (AC); 8601 Adelphi Road; College Park, MD 20740-6001, or by email at RM.Communications@nara.gov.”

PART 1231—TRANSFER OF RECORDS FROM THE CUSTODY OF ONE EXECUTIVE AGENCY TO ANOTHER

22. The authority citation for part 1231 continues to read as follows:

Authority: 44 U.S.C. 2908.

§ 1231.12 [Amended]

23. Amend § 1231.12 introductory text by removing the words “the National Archives and Records Administration, Modern Records Programs (NWM), 8601 Adelphi Road, College Park, MD 20740-6001, phone number (301) 837-1738” and adding in their place the words “NARA, by mail at National Archives and Records Administration; Office of the Chief Records Officer (AC); 8601 Adelphi Road; College Park, MD 20740-6001, or by email at RM.Communications@nara.gov.”

PART 1232—TRANSFER OF RECORDS TO RECORDS STORAGE FACILITIES

24. The authority citation for part 1232 continues to read as follows:

Authority: 44 U.S.C. 2907 and 3103.

§ 1232.10 [Amended]

25. Amend § 1232.10(a) by removing the words “and also in the U.S. Government Manual, which is for sale from the Superintendent of Documents, U.S. Government Printing Office, Mail Stop: SSOP, Washington, DC 20402-9328, and is available on the internet from http://www.access.gpo.gov/nara/index.html” from the end of the paragraph.

26. Revise § 1232.14(b) to read as follows:

§ 1232.14 What requirements must an agency meet before it transfers records to a records storage facility?

* * * * *

(b) To transfer unscheduled records, notify NARA in writing prior to the transfer, by mail at National Archives and Records Administration; Office of the Chief Records Officer (AC); 8601 Adelphi Road; College Park, MD 20740-6001, or by email at RM.Communications@nara.gov. The notification must identify the records storage facility and include a copy of the information required by § 1232.16(a).

* * * * *

27. Revise § 1232.16(b) introductory text to read as follows:

§ 1232.16 What documentation must an agency create before it transfers records to a records storage facility?

* * * * *

(b) In the case of permanent and unscheduled records, provide copies of such documentation to NARA and advise NARA in writing of the new location whenever the records are moved to a new storage facility. For permanent records, the agency must transmit this documentation to NARA no later than 30 days after transferring records to the agency records center or commercial records storage facility. Transmit documentation by mail at National Archives and Records Administration; Office of the Chief Records Officer (AC); 8601 Adelphi Road; College Park, MD 20740-6001, or by email at RM.Communications@nara.gov.

* * * * *

PART 1233—TRANSFER, USE, AND DISPOSITION OF RECORDS IN A NARA FEDERAL RECORDS CENTER

28. The authority citation for part 1233 continues to read as follows:

Authority: 44 U.S.C. 2907 and 3103.

29. Revise § 1233.10(e) to read as follows:

§ 1233.10 How does an agency transfer records to a NARA Federal Records Center?

* * * * *

(e) For further guidance on transferring records to a NARA Federal Records Center, consult the NARA Federal Records Centers Program website (http://www.archives.gov/frc/toolkit.html#transfer). Request current NARA publications and bulletins by contacting an individual NARA Federal Records Center (contact information at http://www.archives.gov/frc/locations.html), or the FRCP by mail at National Archives and Records Administration; Federal Records Centers Program (AF); 8601 Adelphi Road; College Park, MD 20740-6001, or by phone at 301.837.2950.

§ 1233.12 [Amended]

30. Amend § 1233.12 by removing the words “National Archives and Records Administration, Office of Regional Records Services, 8601 Adelphi Road, College Park, MD or phone (301) 837-2950” and adding in their place the words “NARA, by mail at National Archives and Records Administration; Federal Records Centers Program (AF); 8601 Adelphi Road; College Park, MD 20740-6001, or by phone at 301.837.2950.”

31. Revise § 1233.18(e) to read as follows:

§ 1233.18 What reference procedures are used in NARA Federal Records Centers?

* * * * *

(e) For further guidance on requesting records from a NARA Federal Records Center, consult the NARA Federal Records Centers Program website (http://www.archives.gov/frc/toolkit.html#retrieval). Request current NARA publications and bulletins by contacting an individual NARA Federal Records Center (contact information at http://www.archives.gov/frc/locations.html), or the FRCP by mail at National Archives and Records Administration; Federal Records Centers Program (AF); 8601 Adelphi Road; College Park, MD 20740-6001, or by phone at 301.837.2950.

32. Revise § 1233.20(e) to read as follows:

§ 1233.20 How are disposal clearances managed for records in NARA Federal Records Centers?

* * * * *

(e) For further guidance on records disposition, consult the NARA Federal Records Centers Program website (http://www.archives.gov/frc/toolkit.html#disposition). Request current NARA publications and bulletins by contacting an individual NARA Federal Records Center (contact information at http://www.archives.gov/frc/locations.html) or the FRCP, by mail at National Archives and Records Administration; Federal Records Centers Program (AF); 8601 Adelphi Road; College Park, MD 20740-6001, or by phone at 301.837.2950.

PART 1234—FACILITY STANDARDS FOR RECORDS STORAGE FACILITIES

33. The authority citation for part 1234 continues to read as follows:

Authority: 44 U.S.C. 2104(a), 2904, 2907, 3102, and 3103.

34. Amend § 1234.3 by revising paragraph (a), removing paragraph (b), redesignating paragraphs (c) through (h) as paragraphs (b) through (g), and revising the introductory text of newly redesignated paragraph (g) to read as follows:

§ 1234.3 What publications are incorporated by reference in this part?

(a) NARA incorporates certain material by reference into this part with the approval of the Director of the Federal Register under 5 U.S.C. 552(a) and 1 CFR part 51. To enforce any edition other than that specified in this section, NARA must publish a document in the Federal Register and the material must be available to the public. You may inspect all approved material incorporated by reference at NARA's textual research room, located at National Archives and Records Administration; 8601 Adelphi Road; Room 2000; College Park, MD 20740-6001. To arrange to inspect this approved material at NARA, contact NARA's Regulation Comments Desk (Strategy and Performance Division (MP)) by email at regulation_comments@nara.gov or by telephone at 301.837.3151. All approved material is also available from the sources listed below. You may also inspect approved material at the Office of the Federal Register (OFR). For information on the availability of this material at the OFR, call 202.741.6000 or go to http://www.archives.gov/federal_register/cfr/ibr-locations.html.

* * * * *

(g) The following standards are not available from the original publisher or a standards reseller. To inspect the standards at a NARA location other than the NARA facility in College Park, MD, or the Office of the Federal Register, contact NARA's Regulations Comment Desk as provided in paragraph (a) of this section.

* * * * *

35. Amend § 1234.10 by revising the last sentence of paragraph (a)(2) and paragraph (i)(3) to read as follows:

§ 1234.10 What are the facility requirements for all records storage facilities?

(a) * * *

(2) * * * Submit waiver requests to NARA by mail at National Archives and Records Administration; Storage Coordination and Logistics (B-AD); 8601 Adelphi Road; College Park, MD 20740-6001.

* * * * *

(i) * * *

(3) Compact mobile shelving systems (if used) must be designed to permit proper air circulation and fire protection. Request detailed specifications that meet this requirement from NARA by mail at National Archives and Records Administration; Storage Coordination and Logistics (B-AD); 8601 Adelphi Road; College Park, MD 20740-6001.

* * * * *

§ 1234.22 [Amended]

36. Amend § 1234.22(b) by removing the words “the Director, Space and Security Management Division (NAS), National Archives and Records Administration, 8601 Adelphi Rd., College Park, MD 20740-6001, phone number (301) 837-1867” and adding in their place the words “NARA by mail at National Archives and Records Administration; Storage Coordination and Logistics (B-AD); 8601 Adelphi Road; College Park, MD 20740-6001.”

37. Amend § 1234.30 by revising the first sentence of paragraph (c) and the fourth sentence of paragraph (e) to read as follows:

§ 1234.30 How does an agency request authority to establish or relocate records storage facilities?

* * * * *

(c) * * * Submit requests for authority to establish or relocate an agency records center, or to use an agency records center operated by another agency, to NARA by mail at National Archives and Records Administration; Storage Coordination and Logistics (B-AD); 8601 Adelphi Road; College Park, MD 20740-6001. * * *

* * * * *

(e) * * * Send documentation to NARA by mail at National Archives and Records Administration; Storage Coordination and Logistics (B-AD); 8601 Adelphi Road; College Park, MD 20740-6001. * * *

§ 1234.32 [Amended]

38. Amend § 1234.32(a) introductory text by removing the words “the Director, Space and Security Management Division (NAS), National Archives and Records Administration, 8601 Adelphi Road, College Park, MD 20740-6001, phone number (301) 837-1867” and adding in their place the words “NARA, by mail at National Archives and Records Administration; Storage Coordination and Logistics (B-AD); 8601 Adelphi Road; College Park, MD 20740-6001.”

PART 1235—TRANSFER OF RECORDS TO THE NATIONAL ARCHIVES OF THE UNITED STATES

39. The authority citation for part 1235 continues to read as follows:

Authority: 44 U.S.C. 2107 and 2108.

40. Amend § 1235.4 by revising paragraph (a), removing paragraph (b), redesignating paragraphs (c) through (e) as paragraphs (b) through (d), and revising the introductory text of newly redesignated paragraph (d) to read as follows:

§ 1235.4 What publications are incorporated by reference in this part?

(a) NARA incorporates certain material by reference into this part with the approval of the Director of the Federal Register under 5 U.S.C. 552(a) and 1 CFR part 51. To enforce any edition other than that specified in this section, NARA must publish a document in the Federal Register and the material must be available to the public. You may inspect all approved material incorporated by reference at NARA's textual research room, located at National Archives and Records Administration; 8601 Adelphi Road; Room 2000; College Park, MD 20740-6001. To arrange to inspect this approved material at NARA, contact NARA's Regulation Comments Desk (Strategy and Performance Division (MP)) by email at regulation_comments@nara.gov or by telephone at 301.837.3151. All approved material is also available from the sources listed below. You may also inspect approved material at the Office of the Federal Register (OFR). For information on the availability of this material at the OFR, call 202.741.6000 or go to http://www.archives.gov/federal_register/cfr/ibr-locations.html.

* * * * *

(d) The following standards are not available from the original publisher or a standards reseller. To inspect the standards at a NARA location other than the NARA facility in College Park, MD, or the Office of the Federal Register, contact NARA's Regulations Comment Desk as provided in paragraph (a) of this section.

* * * * *

41. Amend § 1235.14(b) introductory text by removing the words “submit to the National Archives and Records Administration, Modern Records Programs (NWM), 8601 Adelphi Road, College Park, MD 20740-6001, phone number (301) 837-1738, a written request certifying continuing need” and adding in their place the words “submit a request certifying continuing need to NARA, by mail at National Archives and Records Administration; Office of the Chief Records Officer (AC); 8601 Adelphi Road; College Park, MD 20740-6001, or by email at permanentrecords@nara.gov.”

42. Amend § 1235.42 as follows:

a. In paragraph (b)(2), removing the words “the National Archives and Records Administration, Special Media Archives Services Division, (NWCS), 8601 Adelphi Road, College Park, MD 20740, phone number (301) 837-2903” and adding in their place the words “NARA, by mail at National Archives and Records Administration; Special Media Records Division (RDS); 8601 Adelphi Road; College Park, MD 20740-6001, or by email at mopix.accessions@nara.gov.”

b. In paragraph (f)(1), removing the words “the National Archives and Records Administration, Special Media Archives Services Division (NWCS), 8601 Adelphi Road, College Park, MD 20740, phone number (301) 837-2903, concerning transfer of” and adding in their place the words “NARA, by mail at National Archives and Records Administration; Special Media Records Division (RDS); 8601 Adelphi Road; College Park, MD 20740-6001, or by email at mopix.accessions@nara.gov (for audiovisual records) and stillpix.accessions@nara.gov (for photographic records), about transferring.”

43. Revise § 1235.44(b) and (c) to read as follows:

§ 1235.44 What general transfer requirements apply to electronic records?

* * * * *

(b) For guidance on transferring electronic records other than those covered in this subpart, consult NARA, by mail at National Archives and Records Administration; Electronic Records Division (RDE); 8601 Adelphi Road; College Park, MD 20740-6001, or by email at etransfers@nara.gov.

(c) When transferring digital photographs and their accompanying metadata, consult NARA, by mail at National Archives and Records Administration; Special Media Records Division (RDS); 8601 Adelphi Road; College Park, MD 20740-6001, or by email at stillpix.accessions@nara.gov.

44. Revise § 1235.46(d) introductory text to read as follows:

§ 1235.46 What electronic media may be used for transferring records to the National Archives of the United States?

* * * * *

(d) File Transfer Protocol. Agencies may use File Transfer Protocol (FTP) to transfer permanent electronic records to the National Archives of the United States only with NARA's approval. Several important factors may limit the use of FTP as a transfer method, including the number of records, record file size, and available bandwidth. Agencies must contact NARA, by mail at National Archives and Records Administration; Special Media Records Division (RDS); 8601 Adelphi Road; College Park, MD 20740-6001, or by email at stillpix.accessions@nara.gov (for digital photographs) or mopix.accessions@nara.gov (for electronic audiovisual records). For all other electronic records formats, contact NARA to initiate the transfer discussions, by mail at National Archives and Records Administration; Electronic Records Division (RDE); 8601 Adelphi Road; College Park, MD 20740-6001, or by email at etransfers@nara.gov. Each transfer of electronic records via FTP must be preceded with a signed SF 258 sent to RDE.

* * * * *

45. Revise § 1235.48(e)(2) to read as follows:

§ 1235.48 What documentation must agencies transfer with electronic records?

* * * * *

(e) * * *

(2) Guidance on the documentation for electronic records in these formats is available online at http://www.archives.gov/records-mgmt/policy/transfer-guidance.html or by contacting NARA, by mail at National Archives and Records Administration; Electronic Records Division (RDE); 8601 Adelphi Road; College Park, MD 20740-6001, or by email at etransfers@nara.gov.

46. Revise § 1235.50(a)(1) and (3) and (e) to read as follows:

§ 1235.50 What specifications and standards for transfer apply to electronic records?

(a) General. (1) Agencies must transfer electronic records in a format that is independent of specific hardware or software. Except as specified in paragraphs (c) through (e) of this section, the records must be written in American Standard Code for Information Interchange (ASCII) or Extended Binary Coded Decimal Interchange Code (EBCDIC) with all control characters and other non-data characters removed. Consult NARA about electronic records in other formats, by mail at National Archives and Records Administration; Electronic Records Division (RDE); 8601 Adelphi Road; College Park, MD 20740-6001, or by email at etransfers@nara.gov.

* * * * *

(3) Agencies interested in transferring scheduled electronic records using a Tape Archive (TAR) utility must contact NARA to initiate transfer discussions, by mail at National Archives and Records Administration; Electronic Records Division (RDE); 8601 Adelphi Road; College Park, MD 20740-6001, or by email at etransfers@nara.gov.

* * * * *

(e) Electronic mail, scanned images of textual records, portable document format records, digital photographic records, and web content records. For guidance on transferring these records to NARA, agencies should consult the transfer requirements available online at https://www.archives.gov/records-mgmt/policy/transfer-guidance.html or upon request from NARA, by mail at National Archives and Records Administration; Electronic Records Division (RDE); 8601 Adelphi Road; College Park, MD 20740-6001, or by email at etransfers@nara.gov.

PART 1237—AUDIOVISUAL, CARTOGRAPHIC, AND RELATED RECORDS MANAGEMENT

47. The authority citation for part 1237 continues to read as follows:

Authority: 44 U.S.C. 2904 and 3101.

48. Amend § 1237.3 by revising paragraph (a), removing paragraph (b), redesignating paragraphs (c) through (f) as paragraphs (b) through (e), and revising the introductory text of newly redesignated paragraph (e) to read as follows:

§ 1237.3 What standards are incorporated by reference in this part?

(a) NARA incorporates certain material by reference into this part with the approval of the Director of the Federal Register under 5 U.S.C. 552(a) and 1 CFR part 51. To enforce any edition other than that specified in this section, NARA must publish a document in the Federal Register and the material must be available to the public. You may inspect all approved material incorporated by reference at NARA's textual research room, located at National Archives and Records Administration; 8601 Adelphi Road; Room 2000; College Park, MD 20740-6001. To arrange to inspect this approved material at NARA, contact NARA's Regulation Comments Desk (Strategy and Performance Division (MP)) by email at regulation_comments@nara.gov or by telephone at 301.837.3151. All approved material is also available from the sources listed below. You may also inspect approved material at the Office of the Federal Register (OFR). For information on the availability of this material at the OFR, call 202.741.6000 or go to http://www.archives.gov/federal_register/cfr/ibr-locations.html.

* * * * *

(e) The following standards are not available from the original publisher or a standards reseller. To inspect the standards at a NARA location other than the NARA facility in College Park, MD, or the Office of the Federal Register, contact NARA's Regulations Comment Desk as provided in paragraph (a) of this section.

* * * * *

§ 1237.22 [Amended]

49. Amend § 1237.22(f) by removing the words “the National Archives and Records Administration, Preservation Programs, (NWT), 8601 Adelphi Road, College Park, MD 20740, phone number (301) 837-1785 for preservation, storage, and treatment options” and adding in their place the words “NARA for preservation, storage, and treatment options, by mail at National Archives and Records Administration; Preservation Programs (RX); 8601 Adelphi Road; College Park, MD 20740-6001.”

50. Amend § 1237.28 by revising the second sentence of paragraph (b) to read as follows:

§ 1237.28 What special concerns apply to digital photographs?

* * * * *

(b) * * * Request additional information and assistance from NARA, by mail at National Archives and Records Administration; Special Media Records Division (RDS); 8601 Adelphi Road; College Park, MD 20740-6001, or by email at stillpix.accessions@nara.gov.

* * * * *

§ 1237.30 [Amended]

51. Amend § 1237.30 as follows:

a. In paragraphs (a)(2), removing the words “the National Archives and Records Administration, Modern Records Program (NWM), 8601 Adelphi Road, College Park, MD 20740, phone number (301) 837-1738” and adding in their place the words “NARA, by mail at National Archives and Records Administration; Special Media Records Division (RDS); 8601 Adelphi Road; College Park, MD 20740-6001, or by email at stillpix.accessions@nara.gov (for photographs) or mopix.accessions@nara.gov (for motion picture film).”

b. In paragraph (b), removing the words “Agencies must notify the National Archives and Records Administration, Modern Records Program (NWM), 8601 Adelphi Road, College Park, MD 20740, phone number (301) 837-1738” and adding in their place the words “Notify NARA, by mail at National Archives and Records Administration; Special Media Records Division (RDS); 8601 Adelphi Road; College Park, MD 20740-6001, or by email at stillpix.accessions@nara.gov (for photographs) or mopix.accessions@nara.gov (for motion picture film).”

PART 1238—MICROFORMS RECORDS MANAGEMENT

52. The authority citation for part 1238 continues to read as follows:

Authority: 44 U.S.C. chapters 29 and 33.

53. Amend § 1238.5 by revising paragraph (a), removing paragraph (b), and redesignating paragraphs (c) through (e) as paragraph (b) through (d) to read as follows:

§ 1238.5 What publications are incorporated by reference in this part?

(a) NARA incorporates certain material by reference into this part with the approval of the Director of the Federal Register under 5 U.S.C. 552(a) and 1 CFR part 51. To enforce any edition other than that specified in this section, NARA must publish a document in the Federal Register and the material must be available to the public. You may inspect all approved material incorporated by reference at NARA's textual research room, located at National Archives and Records Administration; 8601 Adelphi Road; Room 2000; College Park, MD 20740-6001. To arrange to inspect this approved material at NARA, contact NARA's Regulation Comments Desk (Strategy and Performance Division (MP)) by email at regulation_comments@nara.gov or by telephone at 301.837.3151. All approved material is also available from the sources listed below. You may also inspect approved material at the Office of the Federal Register (OFR). For information on the availability of this material at the OFR, call 202.741.6000 or go to http://www.archives.gov/federal_register/cfr/ibr-locations.html.

* * * * *

PART 1239—PROGRAM ASSISTANCE AND INSPECTIONS

54. The authority citation for part 1239 continues to read as follows:

Authority: 44 U.S.C. 2904 and 2906.

55. Revise § 1239.12 to read as follows:

§ 1239.12 Whom may agencies contact to request program assistance?

For information or assistance in any of the areas covered by this subchapter, agencies may contact NARA by mail at National Archives and Records Administration; Office of the Chief Records Officer (AC); 8601 Adelphi Road; College Park, MD 20740-6001, or by email at RM.Communications@nara.gov.

David S. Ferriero,
Archivist of the United States.

[FR Doc. 2018-06174 Filed 3-29-18; 8:45 am]

BILLING CODE 7515-01-P